ENVIRONMENTAL PROTECTION AGENCY

[FRL-9902-47-OA]

Meetings of the Local Government Advisory Committee and the Small Communities Advisory Subcommittee (SCAS)

AGENCY: Environmental Protection Agency (EPA).

ACTION: Notice.

SUMMARY: The Small Communities Advisory Subcommittee (SCAS) will meet via teleconference on Tuesday, November 26, 2013 at 10:30 a.m.-11:30 a.m. (ET). The Subcommittee will discuss small systems waste treatment, water infrastructure, air quality issues and other issues and recommendations regarding environmental issues affecting small communities. This is an open meeting and all interested persons are invited to participate. The Subcommittee will hear comments from the public between 10:30 a.m.-10:45 a.m. on November 26, 2013. Individuals or organizations wishing to address the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

The Local Government Advisory Committee (LGAC) will meet via teleconference on Tuesday, November 26, 2013, 11:30 a.m.-12:30 p.m. (ET). The Committee will discuss Draft 2014-2018 EPA Strategic Plan, air quality issues, brownfield clean ups, water quality issues, environmental justice and other environmental issues of importance to local governments. This is an open meeting and all interested persons are invited to participate. The Committee will hear comments from the public between 11:30 a.m.-11:45 a.m. (ET) on Tuesday, November 26, 2013. Individuals or organizations wishing to address the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

ADDRESSES: EPA's Local Government Advisory Committee meetings will be held via teleconference. Meeting summaries will be available after the meeting online at www.epa.gov/ocir/scas_lgac/lgac_index.htm and can be obtained by written request to the DFO.

FOR FURTHER INFORMATION CONTACT: Local Government Advisory Committee (LGAC) contact Frances Eargle at (202) 564-3115 or email at eargle.frances@epa.gov.

Information Services for Those With Disabilities: For information on access or services for individuals with disabilities, please contact Frances Eargle at (202) 564-3115 or eargle.frances@epa.gov. To request accommodation of a disability, please request it 10 days prior to the meeting, to give EPA as much time as possible to process your request.

Frances Eargle,
Designated Federal Officer, Local Government Advisory Committee.

[FR Doc. 2013-26490 Filed 11-6-13; 8:45 am]

BILLING CODE 6560-50-P